DEPARTMENT OF JUSTICE

Drug Enforcement Administration

Manufacturer of Controlled Substances; Notice of Registration

By Notice dated May 17, 2006, and published in the Federal Register on May 25, 2006, (71 FR 30165), Applied Science Labs., Division of Alltech Associates Inc., 2701 Carolean Industrial Drive, State College, Pennsylvania 16801, made application by letter to the Drug Enforcement Administration (DEA) to be registered as a bulk manufacturer of Tetrahydrocannabinols (7370), a basic class of controlled substance listed in Schedule I.

The company plans to manufacture metabolites of Delta-9-THC to be used as chromatographic standards. These compounds fall under drug code 7370 Tetrahydrocannabinols).

No comments or objections have been received. DEA has considered the factors in 21 U.S.C. 823(a) and determined that the registration of Applied Science Labs to manufacture the listed basic classes of controlled substances is consistent with the public interest at this time. DEA has investigated Applied Science Labs to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: October 11, 2006.
Joseph T. Rannazzisi,
Deputy Assistant Administrator, Office of Diversion Control, Drug Enforcement Administration.

[FR Doc. E6-17291 Filed 10-17-06; 8:45 am]

BILLING CODE 4410-09-P